DEPARTMENT OF HOMELAND SECURITY

Coast Guard

33 CFR Part 100

[Docket No. USCG-2017-0640]

Special Local Regulation for Marine Events; Back River, Hampton, VA

AGENCY: Coast Guard, DHS.

ACTION: Notice of enforcement of regulation.

SUMMARY: The Coast Guard will enforce special local regulations for the Poquoson Seafood Festival Workboat Race held on the Back River on October 15, 2017, with a rain date of October 29, 2017. This action is necessary to provide for the safety of life on navigable waterways during the power boat race. Our regulation for recurring marine events in Captain of the Port—Sector Hampton Roads zone identifies the regulated area for this regatta. During the enforcement period, no vessel may transit this regulated area without approval from the Captain of the Port or a designated representative.

DATES: The regulations in 33 CFR 100.501 will be enforced for the location listed at (c)(8) in the Table to § 100.501, Coast Guard Sector Hampton Roads—COTP Zone, from 1 p.m. through 4 p.m. on October 15, 2017, with a rain date of October 29, 2017.

FOR FURTHER INFORMATION CONTACT: If you have questions about this notice of enforcement, call or email LCDR Barbara Wilk, Waterways Management Sector Hampton Roads, U.S. Coast Guard; telephone 757-668-5580, hamptonroadswaterway@uscg.mil.

SUPPLEMENTARY INFORMATION: The Coast Guard will enforce special local regulations in 33 CFR 100.501 from 1 p.m. until 4 p.m. on October 15, 2017, with a rain date of October 29, 2017, for the Poquoson Seafood Festival Workboat Race at Poquoson, VA. This action is being taken to provide for the safety of life on navigable waterways during the power boat race. Our regulation for recurring marine events within the Fifth Coast Guard District, § 100.501, specifies the location for this special local regulation; Race area: The area is bounded on the north by a line drawn along latitude 37°06′30″ N., bounded on the south by a line drawn along latitude 37°06′15″ N., bounded on the east by a line drawn along longitude 076°18′52″ W. and bounded on the west by a line drawn along longitude 076°19′30″ W. Buffer area: The waters of Back River extending 200 yards outwards from east and west boundary lines, and 100 yards outwards from the north and south boundary lines described in this section. As specified in § 100.501(c), during the enforcement period, no vessel may transit this regulated area without approval from the Captain of the Port (COTP)—Sector Hampton Roads or a COTP designated representative.

This notice of enforcement is issued under authority of 33 CFR 100.501 and 5 U.S.C. 552(a). This notice of enforcement will be published in the Federal Register, Local Notice to Mariners, and conveyed in marine information broadcasts.

Dated: August 1, 2017.
Richard J. Wester,
Captain, U.S. Coast Guard, Captain of the Port, Hampton Roads, VA.

[FR Doc. 2017-16645 Filed 8-7-17; 8:45 am]

BILLING CODE 9110-04-P